DEPARTMENT OF COMMERCE

International Trade Administration

[A-533-838]

Carbazole Violet Pigment 23 from India: Notice of Initiation of Antidumping Duty New Shipper Review

AGENCY: Import Administration, International Trade Administration, Department of Commerce.

EFFECTIVE DATE: January 27, 2006.

SUMMARY: On September 22, 2005, the Department of Commerce received a request to conduct a new shipper review of the antidumping duty order on carbazole violet pigment 23 from India. In accordance with section 751(a)(2)(B) of the Tariff Act of 1930, as amended, and 19 CFR 351.214(d) (2005), we are initiating a new shipper review.

FOR FURTHER INFORMATION CONTACT: Dmitry Vladimirov or Minoo Hatten at (202) 482-0665 and (202) 482-1690, respectively, Office 5, AD/CVD Operations, Import Administration, International Trade Administration, U.S. Department of Commerce, 14th Street and Constitution Avenue, NW, Washington, DC 20230.

SUPPLEMENTARY INFORMATION:

Background

The notice announcing the antidumping duty order on carbazole violet pigment 23 from India was published on December 29, 2004. See Notice of Amended Final Determination of Sales at Less Than Fair Value and Antidumping Duty Order: Carbazole Violet Pigment 23 from India, 69 FR 77988 (December 29, 2004). On September 22, 2005, the Department of Commerce (the Department) received a timely request for a new shipper review of the antidumping duty order on carbazole violet pigment 23 from India from Gharda Chemicals, Ltd. (Gharda). On January 17, 2006, Gharda submitted additional information to supplement its new shipper review request in response to our January 10, 2006, letter requesting that Gharda correct certain deficiencies in its new shipper review request. Gharda is both the Indian producer and exporter of the subject merchandise to the United States on which its request for a new shipper review is based. Gharda Polymers USA, its U.S. subsidiary, is an importer of the subject merchandise.

As required by 19 CFR 351.214(b)(2)(i) and (iii)(A), Gharda certified that it did not export carbazole violet pigment 23 to the United States during the period of investigation (POI) and that, since the initiation of the investigation, it has never been affiliated with any exporter or producer that exported carbazole violet pigment 23 to the United Stated during the POI.¹

¹ See Gharda's Request for New Shipper Review, dated September 22, 2005, and Gharda's Supplemental Submission, dated January 17, 2006.

In addition, pursuant to 19 CFR 351.214(b)(2)(iv), the company submitted documentation establishing the following: (1) the date on which it first shipped the subject merchandise for export to the United States and the date on which its subject merchandise was first entered, or withdrawn from warehouse, for consumption in the United States; (2) the volume of its first shipment and the volume of subsequent shipments ²; and (3) the date of its first sale to an unaffiliated customer in the United States.

² In its September 22, 2005, Request for New Shipper Review, Gharda stated that it had no subsequent shipments.

Initiation of Review

In accordance with section 751(a)(2)(B) of the Tariff Act of 1930, as amended (the Act), and 19 CFR 351.214(d)(1) we are initiating a new shipper review for shipments of carbazole violet pigment 23 from India produced and exported by Gharda. The period of review is December 1, 2004, through November 30, 2005. See 19 CFR 351.214(g)(1)(i)(A). We intend to issue the preliminary results of this new shipper review no later than 180 days after initiation of this review. We intend to issue final results of this review no later than 90 days after the date on which the preliminary results are issued. See 19 CFR 351.214(i).

We will instruct U.S. Customs and Border Protection to allow, at the option of the importer, the posting, until the completion of the review, of a bond or security in lieu of a cash deposit for each entry of the subject merchandise produced and exported by Gharda Chemicals Ltd. in accordance with section 751(a)(2)(B)(iii) of the Act and 19 CFR 351.214(e). Gharda has certified that it both produced and exported the subject merchandise on which it based the request for a new shipper review. Therefore, we will apply the bonding option only to entries of the subject merchandise that were both produced and exported by Gharda.

Interested parties that need access to proprietary information in this new shipper review should submit applications for disclosure under administrative protective orders in accordance with 19 CFR 351.305 and 351.306.

This initiation and notice are in accordance with section 751(a)(2)(B) of the Act, 19 CFR 351.214(d), and 19 CFR 351.221(c)(1)(i).

Dated: January 23, 2006.
Stephen J. Claeys,
Deputy Assistant Secretary for Import Administration.

[FR Doc. E6-1055 Filed 1-26-06; 8:45 am]

BILLING CODE 3510-DS-S